COMMODITY FUTURES TRADING COMMISSION

Sunshine Act Meetings

TIME AND DATE: 10:00 a.m. EDT, Tuesday, April 14, 2020.

PLACE: Conference call.

STATUS: Open.

MATTERS TO BE CONSIDERED: The Commodity Futures Trading Commission (“Commission” or “CFTC”) will hold this meeting to consider the following matters:

• Proposed Rule: Amendments to Part 190 Bankruptcy Regulations;

• Proposed Rule: Amendments to Compliance Requirements for Commodity Pool Operators on Form CPO-PQR;

• Proposed Rule: Amendments to Part 50 Clearing Requirements for Central Banks, Sovereigns, IFIs, Bank Holding Companies, and CDFIs;

• Final Rule: Amendments to Part 23 Margin Requirements for the European Stability Mechanism;

• Final Rule: Amendments to Part 160 Consumer Financial Information Privacy Regulation; and

• Administration of Commission Rulemaking Comment Periods.

The agenda for this meeting will be available to the public and posted on the Commission's website at https://www.cftc.gov. Instructions for public access to the live audio feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: April 7, 2020.
Christopher Kirkpatrick,
Secretary of the Commission.

[FR Doc. 2020-07671 Filed 4-8-20; 11:15 am]

BILLING CODE 6351-01-P